DEPARTMENT OF COMMERCE

Census Bureau

Agency Information Collection Activities; Submission to the Office of Management and Budget (OMB) for Review and Approval; Comment Request; Current Population Survey, Basic Demographics

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 1, 2024, during a 60-day comment period. This notice allows for an additional 30 days for public comments.

Agency: U.S. Census Bureau, Department of Commerce.

Title: Current Population Survey, Basic Demographics.

OMB Control Number: 0607-0049.

Form Number(s): None.

Type of Request: Regular submission, Request for an Extension, without Change of a Currently Approved Collection.

Number of Respondents: 708,000.

Average Hours per Response: 0.0933.

Burden Hours: 66,080.

Needs and Uses: The demographic information collected in the CPS provides a unique set of data on selected characteristics for the civilian noninstitutional population. We use these data in conjunction with other data, particularly the monthly labor force data, as well as periodic supplement data. We also use this data independently for internal analytic research and for evaluation of other surveys. In addition, we need these data to correctly control estimates of other characteristics to the proper proportions of age, sex, race, and origin.

In addition to the demographic questions are the questions needed to make contact with the household. This includes introductions, determining the correct respondent, and verifying the address. These questions are referred to as the “Front” questions. Also involved in maintaining contact with the household are the “Back” questions. These questions collect telephone numbers, best time to contact, and thank the respondent for their cooperation. These questions are needed to do the interview and maintain contact with the household throughout the survey.

Affected Public: Individuals or Households.

Frequency: Monthly.

Respondent's Obligation: Voluntary.

Legal Authority: Title 13 U.S.C. 8(b), 141, and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0049.

Sheleen Dumas,
Department PRA Clearance Officer, Office of the Under Secretary for Economic Affairs, Commerce Department.

[FR Doc. 2024-13171 Filed 6-13-24; 8:45 am]

BILLING CODE 3510-07-P